DEPARTMENT OF COMMERCE

National Oceanic and Atmospheric Administration

Office of Ocean.US Director Solicitation

AGENCY: National Ocean Service, NOAA, Department of Commerce

ACTION: Notice of opportunity to apply.

SUMMARY: Applications for the position of Director, Ocean.US are invited. Ocean.US was created by the National Oceanographic Partnership Program (NOPP) to coordinate the development of an operational integrated and sustained ocean observing system (IOOS). Information from the IOOS system will serve national needs for detecting and forecasting oceanic components of climate variability, facilitating safe and efficient marine operations, ensuring national security, managing resources for sustainable use, preserving and restoring healthy marine ecosystems, mitigating natural hazards, and ensuring public health.

The Director will coordinate with vested interest groups on collaborative activities that accomplish Ocean.US goals to integrate ocean observing activities. These groups include Federal agencies, universities, private industry, state and local governments, and non-governmental organizations. The Director will develop and oversee broad-scale cooperative efforts and strategies of a national scope associated with coastal and ocean stewardship.

The successful candidate will have high-level management experience and the ability to work with a wide range of people and interests to further the goals of Ocean.US and the IOOS. He or she should have demonstrated experience in administration, legislative and public processes, policy development, and constituent affairs. The Director is expected to lead a nation-wide, interagency effort to build coalitions, and should have experience managing staff and negotiating across organizational levels and boundaries. He or she should also have some familiarity with elements of the IOOS, such as Data Management and Communication, Modeling and Analysis, Research, and Education and Outreach.

The successful candidate ideally will have a science background, familiarity with the Global Earth Observing System of Systems (GEOSS), the NOPP process, and the Federal spending process, including spending in a legislated, but unappropriated enterprise. He or she must also be able to obtain a security clearance.

Applications, which should include a letter of interest, a curriculum vitae, and the names, addresses, and e-mail addresses of at least three references, should be sent to: Ocean.US, 2300 Claredon Blvd Suite 1350, Arlington, VA 22201-3667, Attn: Ms. Nicole Larrain.

Review of the applications will begin on June 30, 2005, with a start date of October 1, 2005. The mode of employment will be negotiated, depending on the current employment status of the applicant. The search will remain open until the position is filled. Salary is commensurate with experience.

FOR FURTHER INFORMATION CONTACT: Ms. Nicole Larrain by phone (703) 588-0853 or e-mail n.larrain@ocean.us.

Dated: June 8, 2005.
Mitchell Luxenberg,
Acting Director, Management and Budget, National Ocean Service, National Oceanic and Atmospheric Administration.

[FR Doc. 05-11980 Filed 6-16-05; 8:45 am]

BILLING CODE 3510-JE-M